DEPARTMENT OF TRANSPORTATION

Office of the Secretary

Coast Guard

[USCG-2000-6981]

Deepwater Port License Amendments

AGENCY: The Office of the Secretary (OST) and the United States Coast Guard (USCG), DOT.

ACTION: Notice of change.

SUMMARY: The Secretary announces the issuance, effective June 7, 2000, of an amended and updated license to own, construct and operate the deepwater port known as LOOP (the Louisiana Offshore Oil Port, LLC) and of LOOP's operations manual addendum. The amended license and operating manual addendum respond to LOOP's April 29, 1998 petition to the Commandant for review and amendment of its license issued on January 17, 1977. The amendments and changes conform to legislative changes enacted over the past 20 years and more accurately reflect current operating conditions at the deepwater port.

The amended license and operations manual addendum and remarks by the Commandant and Office of the Secretary explaining the amendments may be viewed electronically through the Web Site for the Docket Management System at http://dms.dot.gov. and will be available for inspection or copying at room PL-401 on the Plaza Level of the Nassif Building at 400 Seventh Street SW, Washington, DC 20590 between 9 a.m. and 5 p.m., Monday through Friday, except Federal holidays.

FOR FURTHER INFORMATION CONTACT: Lieutenant Commander Russ Proctor, Ports & Facilities Compliance Division (G-MOC-3), U.S. Coast Guard Headquarters, 2100 Second Street SW., Washington, DC 20593-0001, telephone 202-267-0499, fax 202-267-0506, or Nancy R. Kessler, Senior Attorney-Advisor, Office of the Secretary, Office of Environmental, Civil Rights, and General Law (OST-C-10), U.S. Department of Transportation, 400 Seventh Street, SW., Washington, DC 20590, telephone 202-366-9301, fax 202-366-9170. For questions on viewing the license and operations manual addendum, call Dorothy Y. Beard, Chief, Dockets, Department of Transportation, telephone 202-366-5149.

SUPPLEMENTARY INFORMATION:

Background and Purpose

The Deepwater Port Act (33 U.S.C. 1501 et seq.) (Act), as amended by the Deepwater Port Act Amendments of 1984 (Pub. Law 98-419) and the Deepwater Port Modernization Act of 1996 (Pub. Law 104-324), authorizes the Secretary of Transportation to amend a deepwater port license on petition of a licensee. The Act directs the Secretary to review any condition of a deepwater port license to determine if the condition is uniform with conditions of other deepwater port licenses and whether it is reasonable and necessary to meet the objectives of the Act. The Act further directs the Secretary to amend or rescind any condition no longer necessary or otherwise required by any federal agency under the Act.

The Deepwater Port Act of 1974 established a comprehensive regulatory structure for the location, construction, and operation of deepwater ports to respond to environmental and safety concerns over the growing use of supertankers navigating coastal ports. On January 17, 1977, then Secretary of Transportation William T. Coleman, Jr. issued to LOOP a 20-year term license to own, construct and operate the deepwater port off the shores of southern Louisiana, pursuant to the Deepwater Port Act of 1974 (“the Act”) (Pub. L. 93-627, 33 U.S.C. 1501 et seq.). On August 1, 1977, then Secretary of Transportation Brock Adams received LOOP's acceptance of the license. LOOP has since constructed and operated the nation's only deepwater port.

Since the passage of the 1974 Act, other methods of delivering oil to the United States, such as offshore lightering activities have provided significant market competition for LOOP. The Deepwater Port Act Amendments of 1984 (1984 Amendments) and the Deepwater Port Modernization Act of 1996 (1996 Modernization Act) responded to the competitive environment and removed unnecessary and burdensome requirements that hindered LOOP's economic viability.

The 1984 Amendments, for example, (1) simplified procedures for amendment, transfer, and reinstatement of a deepwater port license; (2) extended the term of a deepwater port license from 20 years to an indefinite period covering the life of the facility; and (3) relieved deepwater ports of economic regulation by the Federal Energy Regulatory Commission (while reserving future regulatory authority if appropriate competitive conditions no longer exist). The 1996 Modernization Act encouraged greater use of deepwater ports, particularly for Outer Continental Shelf oil; streamlined the deepwater port regulatory structure; and eliminated requirements for advance antitrust review (by the Department of Justice and Federal Trade Commission).

We have processed the license amendment through an informal, simplified administrative process, consistent with the changes made by the 1984 Amendments. The 1984 Amendments require only a “petition” for a license amendment, as distinguished from a formal, comprehensive “application” for license issuance. 33 U.S.C. 1502(4); 1503(b). We examined LOOP's license in light of the statutory direction that we review deepwater port license conditions to determine whether they are reasonable and necessary to meet the Act's objectives. 33 U.S.C. 1503(e)(1). Our changes, in response to LOOP's petition to amend its license, conform to the statutory requirement that we “amend or rescind any condition that is no longer necessary or otherwise required by any Federal department or agency” under the Act. 33 U.S.C. 1503(e)(1).

The Commandant, pursuant to delegated authority, processed LOOP's April 29, 1998, application for amendment of its license to construct and operate a deepwater port. 49 CFR part 1.46(s). I have the reserved authority to issue the amended license. 49 CFR part 1.44(o).

The license amendments eliminate: (1) The license term; (2) references to the original, outdated application; and (3) economic requirements (nondiscrimination, access for shipments, tariffs, required expansion) arising from the outdated common carrier obligation and from antitrust review that has been repealed. The amendments also: update the license to recognize completion of certain port construction; permit more flexible Coast Guard review of off-shore facilities; and transfer some operating procedures to the Operations Manual without eliminating any environmental protection provisions.

We have determined that the license amendments do not eliminate any environmental protection provisions. Certain conditions of the original license have been transferred verbatim to the addendum to LOOP's Operations Manual and the license conditions also require LOOP to operate the port in accordance with an approved Operations Manual. Both documents are binding sources of legal authority, and the environmental protections and enforcement procedures therefore have not changed. These changes conform to the 1996 Modernization Act requirement that, to the extent practicable, the deepwater port's operating procedures should be stated in an operations manual, approved by the Coast Guard, rather than in detailed and specific license conditions. 33 U.S.C. 1503(e)(1).

Accordingly, I have directed the Federal Register publication of the amended License to Own, Construct and Operate a Deepwater Port issued to LOOP LLC.

Dated: June 1, 2000.
Rodney E. Slater,
Secretary of Transportation.

[FR Doc. 00-15282 Filed 6-15-00; 8:45 am]

BILLING CODE 4910-15-P; 4910-62-P